DEPARTMENT OF THE INTERIOR

National Park Service

Winter Use Plans, Final Environmental Impact Statement for the Yellowstone and Grand Teton National Parks and John D. Rockefeller, Jr., Memorial Parkway, Wyoming

AGENCY: National Park Service, Department of the Interior.

ACTION: Availability of the Winter Use Plans, Final Environmental Impact Statement for the Yellowstone and Grand Teton National Parks and John D. Rockefeller, Jr., Memorial Parkway.

SUMMARY: Pursuant to section 102(2)(c) of the National Environmental Policy Act of 1969, the National Park Service announces the availability of the Winter Use Plans, Final Environmental Impact Statement for the Yellowstone and Grand Teton National Parks and John D. Rockefeller, Jr., Memorial Parkway, Wyoming and Montana.

DATES: The DEIS was on public review from July 30, 1999 to December 15, 1999. Responses to public comments are addressed in the FEIS. The National Park Service (NPS) will entertain comments on the FEIS, although it is not legally required to do so. All comments must be received by October 31, 2000 and should be sent to: Clifford Hawkes, PDS-P, National Park Service, 12795 West Alameda Parkway, Lakewood, Colorado 80228 or the email address: yell_winter_use@nps.gov. Comments received after this date will not be considered. Comments transmitted by facsimile machine will not be considered. To meet a deadline in a court-approved settlement agreement for this EIS, the NPS cannot extend the comment period.

ADDRESSES: Copies of the FEIS are available from Clifford Hawkes, National Park Service, Denver Service Center, 12795 West Alameda Parkway, Lakewood, Colorado 80228. Public reading copies of the plan are available on the Internet (www.nps.gov/planning) and will be available for review at the following locations:

Office of the Superintendent, Yellowstone NP, Yellowstone National Park, Wyoming 82190, Telephone: (307) 344-2010.

Office of the Superintendent, Grand Teton NP, P.O. Drawer 170, Moose, WY 83012-0170, Telephone: (307) 739-3452.

Planning and Environmental Quality, Intermountain Support Office-Denver, National Park Service, P.O. Box 25287, Denver, CO 80225-0287, Telephone: (303) 969-2851.

Office of Public Affairs, National Park Service, Department of Interior, 18th and C Streets NW, Washington, DC 20240, Telephone: (202) 208-6843.

SUPPLEMENTARY INFORMATION: This document presents and analyzes 7 alternatives for winter use management in Yellowstone National Park (YNP), Grand Teton National Park (GTNP), and the John D. Rockefeller, Jr., Memorial Parkway (the Parkway).

Alternative G, the preferred alternative, emphasizes clean, quiet access to the parks using the technologies available today. It would allow over-snow access on all routes currently available via NPS-managed snowcoach only. Other key changes in recreation opportunities are: eliminating winter plowing on the Colter Bay to Flagg Ranch route, making Flagg Ranch a destination via over-snow transport, and eliminating all winter motorized use on Jackson Lake. This alternative addresses the full range of issues regarding safety, natural resource impacts, visitor experience and access. It addresses the issues in a way that would make it necessary for local economies to adapt, and for snowmobile users to access the parks using a different mode of transport. Under alternative A-No Action, current use and management practices in the parks and Parkway continue. The concept under alternative B provides a moderate range of affordable and appropriate winter visitor experiences. Air quality and oversnow motor vehicle sound would be addressed, and by the winter of 2008-2009, strict emission and sound requirements would be required by all oversnow vehicles entering the parks. This alternative also emphasizes an adaptive approach to park resource management, which would allow the results of new and ongoing research and monitoring to be incorporated. Alternative C maximizes winter visitor opportunities for a range of park experiences. Alternative D stresses visitor access to unique winter features in the parks. This alternative emphasizes clean, quiet modes of travel, visitor activities focused near destination areas, and a minimization of conflicts between nonmotorized and motorized users. Under alternative E the protection of wildlife and natural resources is emphasized while allowing park visitors access to a range of winter recreation experiences. Alternative E uses an adaptive planning approach that allows new information to be incorporated over time. Alternative F stresses the protection of wildlife resources by focusing winter visitor activities in YNP outside important winter range for large ungulate species, and closing north and west roads to winter use. For GTNP and the Parkway, this alternative emphasizes the protection of all resources by focusing developments, oversnow motorized trails and zones, and nonmotorized trails and zones in certain areas, while still allowing park visitors opportunities for a range of winter recreational experiences.

The details and impacts of the alternatives are described in this document. They include major long-term beneficial improvements to the protection of geothermal winter range and other park resources, some adverse effects from visitor use activities, and major beneficial improvements to the desired visitor experience for solitude, clean air, and natural quiet. These impacts vary by alternative.

FOR FURTHER INFORMATION CONTACT: Clifford Hawkes, National Park Service, Denver Service Center, 12795 West Alameda Parkway, Lakewood, Colorado 80228.

Dated: September 28, 2000.
Karen P. Wade,
Regional Director, Intermountain Region, National Park Service.

[FR Doc. 00-27478 Filed 10-30-00; 8:45 am]

BILLING CODE 4310-70-P